DEPARTMENT OF COMMERCE

International Trade Administration

[A-570-853]

Bulk Aspirin from the People's Republic of China; Final Results of Antidumping Duty Review

AGENCY: Import Administration, International Trade Administration, Department of Commerce.

ACTION: Notice of Final Results of Antidumping Duty Review.

SUMMARY: On August 7, 2002, the Department of Commerce published the preliminary results of the administrative review of the antidumping duty order on bulk aspirin from the People's Republic of China. We gave interested parties an opportunity to comment on the preliminary results. Based upon our analysis of the comments received, we have made changes to the margin calculations presented in the final results of the review. We find that bulk aspirin from the People's Republic of China was not sold in the United States below normal value during the period of review.

EFFECTIVE DATE: February 10, 2003.

FOR FURTHER INFORMATION CONTACT: Julie Santoboni or Cole Kyle, Import Administration, International Trade Administration, U.S. Department of Commerce, 14th and Constitution Avenue, NW, Washington, DC 20230; telephone (202) 482-4194 or (202) 482-1503, respectively.

SUPPLEMENTARY INFORMATION:

Background

On August 7, 2002, the Department of Commerce (“the Department”) published in the Federal Register the preliminary results of its administrative review of bulk acetylsalicylic acid, commonly referred to as bulk aspirin, from the People's Republic of China (“PRC”) (Bulk Aspirin from the People's Republic of China: Preliminary Results of Antidumping Duty Administrative Review and Changed Circumstances Review, 67 FR 51167 (August 7, 2002) (“Preliminary Results”)).

Since the Preliminary Results, the following events have occurred: We received a case brief from the petitioner, Rhodia, Inc. (“petitioner”), on September 6, 2002. We received rebuttal briefs from the respondents, Shandong Xinhua Pharmaceutical Co., Ltd. (“Shandong”) and Jilin Henghe Pharmaceutical Company Ltd. (“Jilin”), on September 13, 2002. On October 25, 2002, the Department of Commerce published the final results of the changed circumstances review of bulk aspirin from the PRC, finding that Jilin Henghe Pharmaceutical is the successor-in-interest to Jilin Pharmaceutical Company Ltd. and Jilin Pharmaceutical Import and Export Corporation (see Bulk Aspirin from the People's Republic of China: Final Results of Changed Circumstances Review, 67 FR 65537 (October 25, 2002)).

The Department has now completed this antidumping duty administrative review in accordance with section 751 of the Tariff Act of 1930, as amended (the “Act”).

Scope of Order

The product covered by this review is bulk acetylsalicylic acid, commonly referred to as bulk aspirin, whether or not in pharmaceutical or compound form, not put up in dosage form (tablet, capsule, powders or similar form for direct human consumption). Bulk aspirin may be imported in two forms, as pure ortho-acetylsalicylic acid or as mixed ortho-acetylsalicylic acid. Pure ortho-acetylsalicylic acid can be either in crystal form or granulated into a fine powder (pharmaceutical form). This product has the chemical formula C9H8O4. It is defined by the official monograph of the United States Pharmacopoeia (“USP”) 23. It is classified under the Harmonized Tariff Schedule of the United States (“HTSUS”) subheading 2918.22.1000.

Mixed ortho-acetylsalicylic acid consists of ortho-acetylsalicylic acid combined with other inactive substances such as starch, lactose, cellulose, or coloring materials and/or other active substances. The presence of other active substances must be in concentrations less than that specified for particular nonprescription drug combinations of bulk aspirin and active substances as published in the Handbook of Nonprescription Drugs, eighth edition, American Pharmaceutical Association. This product is classified under HTSUS subheading 3003.90.0000. Although the HTSUS subheadings are provided for convenience and customs purposes, the written description of the merchandise under investigation is dispositive.

Period of Review

The period of review (“POR”) is July 6, 2000 through June 30, 2001.

Comparisons

We calculated export price and normal value based on the same methodology used in the Preliminary Results with the following exceptions:

• We have valued certain inputs using domestic prices in India rather than import prices;

• We are no longer using Indian Chemical Weekly (“ICW”) import prices in our calculation of factor values;

• We adjusted the valuation of certain surrogate inputs in order to make them contemporaneous with the POR;

• We relied solely on the overhead and SG&A ratios from the Indian surrogate producer Alta Laboratories;

• We have recalculated Shandong's overhead ratio as a percentage of materials and energy, rather than materials, energy and labor;

• Pursuant to section 351.408(c)(3) of the Department's regulations, we valued labor using the recently updated regression-based wage rate for the PRC published by Import Administration on its website. The revised PRC estimated average hourly wage rate for 2000 is $0.84 per hour. See www.ia.ita.doc.gov/wages/00wages/00wages.htm;

• For Jilin, we revised reported payment dates, imputed credit expenses, and quantities, where appropriate, for certain U.S. sales; and

• We corrected a ministerial error.

For a complete discussion of these changes see the February 3, 2003, “Issues and Decision Memorandum for the Final Results of the Antidumping Duty Administrative Review of Bulk Aspirin from the People's Republic of China” (“Decision Memorandum”), the February 3, 2003, company-specific calculation memorandum, and the February 3, 2003, Factors of Production Memorandum.

Analysis of Comments Received

All issues raised in the petitioner's case brief are addressed in the Decision Memorandum which is hereby adopted by this notice. Attached to this notice as an appendix is a list of the issues which the petitioner has raised and to which we have responded in the Decision Memorandum. Parties can find a complete discussion of all issues raised in this review and the corresponding recommendations in this public memorandum which is on file in the Central Records Unit, Room B-099 of the Department. In addition, a complete version of the Decision Memorandum can be accessed directly on the Web at http://ia.ita.doc.gov/frn/summary/list.htm. The paper copy and electronic version of the Decision Memorandum are identical in content.

Final Results of Review

We determine that the following dumping margins exist for the period July 6, 2000, through June 30, 2001:

Exporter/manufacture | Weighted-­average ­margin ­percentage
Shandong Xinhua ­Pharmaceutical Co., Ltd. | 0.00
Jilin Henghe Pharmaceutical Company Ltd. | 0.04 ­(de minimis)

Assessment Rates

In accordance with 19 CFR 351.212(b)(1), we have calculated importer (or customer)-specific assessment rates for the merchandise subject to this review. To determine whether the duty assessment rates were de minimis, in accordance with the requirement set forth in 19 CFR 351.106(c)(2), we calculated importer (or customer)-specific ad valorem rates by aggregating the dumping margins calculated for all U.S. sales to that importer (or customer) and dividing this amount by the total value of the sales to that importer (or customer). Where an importer (or customer)-specific ad valorem rate was greater than de minimis, we calculated a per unit assessment rate by aggregating the dumping margins calculated for all U.S. sales to that importer (or customer) and dividing this amount by the total quantity sold to that importer (or customer).

All other entries of the subject merchandise during the POR will be liquidated at the antidumping duty rate in place at the time of entry.

The Department will issue appropriate assessment instructions directly to the Customs Service within 15 days of publication of these final results of review.

Cash Deposit Requirements

The following deposit rates will be effective upon publication of these final results for all shipments of bulk aspirin from the PRC entered, or withdrawn from warehouse, for consumption on or after the publication date of this notice, as provided for by section 751(a)(1) of the Act:(1) for Shandong and Jilin, which have separate rates, no antidumping duty deposit will be required; (2) for a company previously found to be entitled to a separate rate and for which no review was requested, the cash deposit rate will be the rate established in the most recent review of that company; (3) for all other PRC exporters the cash deposit rate will be 144.02 percent, the PRC-wide rate established in the less than fair value investigation; and (4) for non-PRC exporters of subject merchandise from the PRC, the cash deposit rate will be the rate applicable to the PRC supplier of that exporter. These deposit rates shall remain in effect until publication of the final results of the next administrative review.

Notification to Importers

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

Notification Regarding APOs

This notice also serves as a reminder to parties subject to administrative protective orders (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing this determination and notice in accordance with sections section 751(a)(3) and 777(i) of the Act.

Dated: February 3, 2003.
Faryar Shirzad,
Assistant Secretary for Import Administration.

APPENDIX

List of Comments in the Issues and Decision Memorandum

Comment 1: Use of Import Prices v. Domestic Prices in India to Value Certain Inputs

Comment 2: Adjustment of Overhead and SG&A Ratios to Account for Different Levels of Integration

Comment 3: Exclusion of Labor in the Calculation of the Overhead Ratio and Reclassification of R&D Expenses

Comment 4: Removal of Excise Tax from Alta's Reported Material Costs for the Calculation of Overhead and SG&A Ratios

Comment 5: Other Adjustments to the Overhead and SG&A Ratios

Comment 6: Inflation of Labor Rates

Comment 7: Valuation of a Proprietary Input for Shandong

Comment 8: Shandong's Usage of Acetic Anhydride

[FR Doc. 03-3284 Filed 2-7-03; 8:45 am]

BILLING CODE 3510-DS-S